FEDERAL COMMUNICATIONS COMMISSION

47 CFR Part 97

[WT Docket No. 12-283; FCC 14-74]

Amateur Service Rules

AGENCY: Federal Communications Commission.

ACTION: Final rule.

SUMMARY: This document amends the rules for the Amateur Radio Service by modifying the qualifying examination system to grant partial examination credit for certain expired amateur operator licenses, permits examinations to be administered remotely, and allows amateur stations to transmit certain additional emission types. The rule amendments are necessary to implement these changes. Additionally, this document amends certain rules to conform them to prior Commission decisions. The effect of this action is to enhance the usefulness of the amateur service rules by making the amateur service more accessible to former licensees and to allow amateur stations to transmit certain additional emission types.

DATES: Effective July 21, 2014.

FOR FURTHER INFORMATION CONTACT: William T. Cross, Mobility Division, Wireless Telecommunications Bureau, at (202) 418-0680, or TTY (202) 418-7233.

SUPPLEMENTARY INFORMATION: This is a summary of the Commission's Report and Order (R&O), adopted June 5, 2014, and released June 9, 2014. The full text of this document is available for inspection and copying during normal business hours in the FCC Reference Center, 445 12th Street SW., Washington, DC 20554. The complete text may be purchased from the Commission's copy contractor, Best Copy and Printing, Inc., 445 12th Street SW., Room CY-B402, Washington, DC 20554. The full text may also be downloaded at: www.fcc.gov. Alternative formats are available to persons with disabilities by sending an email to fcc504@fcc.gov or by calling the Consumer & Governmental Affairs Bureau at 202-418-0530 (voice), 202-418-0432 (tty).

1. By this action, the Commission amends the rules for the Amateur Radio Service by modifying the qualifying examination system to grant partial examination credit for certain expired amateur operator licenses.

2. Also, by this action, the Commission permits examinations to be administered remotely.

3. In addition, the Commission allows amateur stations to transmit certain additional emission types and makes certain minor, non-substantive amendments to the amateur service rules to reflect that the Commission previously eliminated the requirement that certain amateur radio service licensees pass a Morse code examination.

4. The rules that the Commission adopted in this R&O apply to amateur radio clubs, some of which may be small entities. The Commission certifies that no regulatory flexibility analysis is necessary here because, even if a substantial number of amateur radio clubs were affected by the rules, there would not be a significant economic impact on those entities. The rules we are adopting do not impose economic requirements. Instead, they relate to the administration of the amateur radio service. Therefore, we certify that the rule changes adopted in this R&O will not have a significant economic impact on a substantial number of small entities.

5. This R&O and the rule amendments are issued under the authority contained in 47 U.S.C. 154(i), 303(r), and 403.

6. Paperwork Reduction Act Analysis. This Report and Order does not contain new or modified information collection(s), subject to the Paperwork Reduction Act of 1995, Public Law 104-13. In addition, because businesses are not eligible for licensing in the amateur radio service, the Report and Order it does not contain any proposed new or modified “information collection burden for small business concerns with fewer than 25 employees,” pursuant to the Small Business Paperwork Relief Act of 2002, Public Law 107-198, see 44 U.S.C. 3506(c)(4).

7. Congressional Review Act. The Commission will send a copy of this Report and Order to Congress and the Government Accountability Office pursuant to the Congressional Review Act, see 5 U.S.C. 801(a)(1)(4).

8. The Commission's Consumer and Governmental Affairs Bureau, Reference Information Center, SHALL SEND a copy of this Report and Order, including the Initial and Final Regulatory Flexibility Certifications, to the Chief Counsel for Advocacy of the Small Business Administration.

List of Subject in 47 CFR Part 97

Radio.

Federal Communications Commission.
Marlene H. Dortch,
Secretary.

Rule Changes

For the reasons discussed in the preamble, the Federal Communications Commission amends 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Section 97.3 is amended by revising paragraph (c)(5) to read as follows:

§ 97.3 Definitions.

* * * * *

(c) * * *

(5) Phone. Speech and other sound emissions having designators with A, C, D, F, G, H, J or R as the first symbol; 1, 2, 3 or X as the second symbol; E as the third symbol. Also speech emissions having B or F as the first symbol; 7, 8 or 9 as the second symbol; E as the third symbol. MCW for the purpose of performing the station identification procedure, or for providing telegraphy practice interspersed with speech. Incidental tones for the purpose of selective calling or alerting or to control the level of a demodulated signal may also be considered phone.

* * * * *

3. Section 97.7 is amended by revising the section heading to read as follows:

§ 97.7 Control operator required.

* * * * *

4. Section 97.21 is amended by revising paragraph (c) to read as follows:

§ 97.21 Application for a modified or renewed license grant.

* * * * *

(c) Except as provided in paragraph (a)(3) of this section, a call sign obtained under the sequential or vanity call sign system will be reassigned to the station upon renewal or modification of a station license.

5. Section 97.113 is amended by revising paragraph (a)(3)(i) to read as follows:

§ 97.113 Prohibited transmissions.

(a) * * *

(3) * * *

(i) A station licensee or station control operator may participate on behalf of an employer in an emergency preparedness or disaster readiness test or drill, limited to the duration and scope of such test or drill, and operational testing immediately prior to such test or drill. Tests or drills that are not government-sponsored are limited to a total time of one hour per week; except that no more than twice in any calendar year, they may be conducted for a period not to exceed 72 hours.

* * * * *

6. Section 97.307 is amended by revising paragraphs (f)(8) and (f)(10) to read as follows:

§ 97.307 Emission standards.

* * * * *

(f) * * *

(8) A RTTY or data emission having designators with A, B, C, D, E, F, G, H, J or R as the first symbol; 1, 2, 7, 9 or X as the second symbol; and D or W as the third symbol is also authorized.

* * * * *

(10) A station having a control operator holding a Novice Class operator license or a Technician Class operator license may only transmit a CW emission using the international Morse code or phone emissions J3E and R3E.

* * * * *

7. Section 97.505 is revised to read as follows:

§ 97.505 Element credit.

(a) The administering VEs must give credit as specified below to an examinee holding any of the following license grants:

Operator class | Unexpired (or within the renewal grace period) | Expired and beyond the renewal grace period
(1) Amateur Extra | Not applicable | Elements 3 and 4.
(2) Advanced; General; or Technician granted before March 21, 1987 | Elements 2 and 3 | Element 3.
(3) Technician Plus; or Technician granted on or after March 21, 1987 | Element 2 | No credit.

(b) The administering VEs must give credit to an examinee holding a CSCE for each element the CSCE indicates the examinee passed within the previous 365 days.

8. Section 97.507 is amended by revising paragraphs (a) and (c) and removing paragraph (d) to read as follows:

§ 97.507 Preparing an examination.

(a) Each written question set administered to an examinee must be prepared by a VE holding an Amateur Extra Class operator license. A written question set may also be prepared for the following elements by a VE holding an operator license of the class indicated:

* * * * *

(c) Each written question set administered to an examinee for an amateur operator license must be prepared, or obtained from a supplier, by the administering VEs according to instructions from the coordinating VEC.

9. Section 97.509 is amended by revising paragraphs (c), (f) and (h) and removing and reserving paragraph (g), to read as follows:

§ 97.509 Administering VE requirements.

* * * * *

(c) Each administering VE must observe the examinee throughout the entire examination. The administering VEs are responsible for the proper conduct and necessary supervision of each examination. The administering VEs must immediately terminate the examination upon failure of the examinee to comply with their instructions.

* * * * *

(f) No examination that has been compromised shall be administered to any examinee. The same question set may not be re-administered to the same examinee.

(g) [Reserved]

(h) Upon completion of each examination element, the administering VEs must immediately grade the examinee's answers. For examinations administered remotely, the administering VEs must grade the examinee's answers at the earliest practical opportunity. The administering VEs are responsible for determining the correctness of the examinee's answers.

* * * * *

10. Section 97.513 is amended by revising paragraph (b) to read as follows:

§ 97.513 VE session manager requirements.

* * * * *

(b) The VE session manager may carry on liaison functions between the VE team and the coordinating VEC.

* * * * *

11. Section 97.519 is amended by revising paragraph (b)(2) to read as follows:

§ 97.519 Coordinating examination sessions.

* * * * *

(b) * * *

(2) Resolve all discrepancies and verify that the VEs' certifications are properly completed; and

* * * * *

[FR Doc. 2014-14414 Filed 6-19-14; 8:45 am]

BILLING CODE 6712-01-P